DEPARTMENT OF HOMELAND SECURITY

Federal Emergency Management Agency

44 CFR Part 67

[Docket ID FEMA-2011-0002; Internal Agency Docket No. FEMA-B-1184]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before July 26, 2011.

ADDRESSES: The corresponding preliminary Flood Insurance Rate Map (FIRM) for the proposed BFEs for each community is available for inspection at the community's map repository. The respective addresses are listed in the table below.

You may submit comments, identified by Docket No. FEMA-B-1184, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Polk County, Florida, and Incorporated Areas
Lake B—ICPR Node Lake B | Entire shoreline | None | +67 | Unincorporated Areas of Polk County.
Lake Marion Creek | Approximately 1 mile upstream of the Lake Hatchineha confluence | +56 | +57 | Unincorporated Areas of Polk County.
| At the Lake Marion Creek Outlet and Snell Creek confluence | None | +67
Lake Marion Creek Outlet | At the Lake Marion Creek and Snell Creek confluence | None | +67 | Unincorporated Areas of Polk County.
| At the Lake Marion confluence | None | +68
Lake Polk—ICPR Node Lake Polk | Entire shoreline | None | +67 | Unincorporated Areas of Polk County.
London Creek Watershed Unnamed Pond—ICPR Node 28A1 | Entire shoreline | None | +70 | Unincorporated Areas of Polk County.
London Creek Watershed Unnamed Pond—ICPR Node 28A10 | Entire shoreline | None | +64 | Unincorporated Areas of Polk County.
London Creek Watershed Unnamed Pond—ICPR Node 28A11 | Entire shoreline | None | +64 | Unincorporated Areas of Polk County.
London Creek Watershed Unnamed Pond—ICPR Node 28A12 | Entire shoreline | None | +64 | Unincorporated Areas of Polk County.
London Creek Watershed Unnamed Pond—ICPR Node 28A13 | Entire shoreline | None | +63 | Unincorporated Areas of Polk County.
London Creek Watershed Unnamed Pond—ICPR Node 28A2 | Entire shoreline | None | +68 | Unincorporated Areas of Polk County.
London Creek Watershed Unnamed Pond—ICPR Node 28A20 | Entire shoreline | None | +70 | Unincorporated Areas of Polk County.
London Creek Watershed Unnamed Pond—ICPR Node 28A21 | Entire shoreline | None | +70 | Unincorporated Areas of Polk County.
London Creek Watershed Unnamed Pond—ICPR Node 28A22 | Entire shoreline | None | +70 | Unincorporated Areas of Polk County.
London Creek Watershed Unnamed Pond—ICPR Node 28A3 | Entire shoreline | None | +67 | Unincorporated Areas of Polk County.
London Creek Watershed Unnamed Pond—ICPR Node 28A5 | Entire shoreline | None | +65 | Unincorporated Areas of Polk County.
London Creek Watershed Unnamed Pond—ICPR Node 28A6 | Entire shoreline | None | +65 | Unincorporated Areas of Polk County.
London Creek Watershed Unnamed Pond—ICPR Node 28A7 | Entire shoreline | None | +65 | Unincorporated Areas of Polk County.
London Creek Watershed Unnamed Pond—ICPR Node 28A8 | Entire shoreline | None | +63 | Unincorporated Areas of Polk County.
London Creek Watershed Unnamed Pond—ICPR Node 28A9 | Entire shoreline | None | +64 | Unincorporated Areas of Polk County.
London Creek Watershed Unnamed Pond—ICPR Node 28B1 | Entire shoreline | None | +70 | Unincorporated Areas of Polk County.
London Creek Watershed Unnamed Pond—ICPR Node 28B11 | Entire shoreline | None | +66 | Unincorporated Areas of Polk County.
London Creek Watershed Unnamed Pond—ICPR Node 28B12 | Entire shoreline | None | +65 | Unincorporated Areas of Polk County.
London Creek Watershed Unnamed Pond—ICPR Node 28B15 | Entire shoreline | None | +65 | Unincorporated Areas of Polk County.
London Creek Watershed Unnamed Pond—ICPR Node 28B16 | Entire shoreline | None | +63 | Unincorporated Areas of Polk County.
London Creek Watershed Unnamed Pond—ICPR Node 28B5 | Entire shoreline | None | +70 | Unincorporated Areas of Polk County.
London Creek Watershed Unnamed Pond—ICPR Node 28B6 | Entire shoreline | None | +70 | Unincorporated Areas of Polk County.
London Creek Watershed Unnamed Pond—ICPR Node 28C11 | Entire shoreline | None | +64 | Unincorporated Areas of Polk County.
London Creek Watershed Unnamed Pond—ICPR Node 28C12 | Entire shoreline | None | +66 | Unincorporated Areas of Polk County.
London Creek Watershed Unnamed Pond—ICPR Node 28C20 | Entire shoreline | None | +66 | Unincorporated Areas of Polk County.
London Creek Watershed Unnamed Pond—ICPR Node 28C8 | Entire shoreline | None | +65 | Unincorporated Areas of Polk County.
London Creek Watershed Unnamed Pond—ICPR Node 28C9 | Entire shoreline | None | +67 | Unincorporated Areas of Polk County.
London Creek Watershed Unnamed Pond—ICPR Node 28D1 | Entire shoreline | None | +67 | Unincorporated Areas of Polk County.
London Creek Watershed Unnamed Pond—ICPR Node 28D10 | Entire shoreline | None | +64 | Unincorporated Areas of Polk County.
London Creek Watershed Unnamed Pond—ICPR Node 28D11 | Entire shoreline | None | +67 | Unincorporated Areas of Polk County.
London Creek Watershed Unnamed Pond—ICPR Node 28D2 | Entire shoreline | None | +67 | Unincorporated Areas of Polk County.
London Creek Watershed Unnamed Pond—ICPR Node 28D3 | Entire shoreline | None | +66 | Unincorporated Areas of Polk County.
London Creek Watershed Unnamed Pond—ICPR Node 28D4 | Entire shoreline | None | +65 | Unincorporated Areas of Polk County.
London Creek Watershed Unnamed Pond—ICPR Node 28D5 | Entire shoreline | None | +66 | Unincorporated Areas of Polk County.
London Creek Watershed Unnamed Pond—ICPR Node 28D6 | Entire shoreline | None | +65 | Unincorporated Areas of Polk County.
London Creek Watershed Unnamed Pond—ICPR Node 28D7 | Entire shoreline | None | +65 | Unincorporated Areas of Polk County.
London Creek Watershed Unnamed Pond—ICPR Node 28D8 | Entire shoreline | None | +65 | Unincorporated Areas of Polk County.
London Creek Watershed Unnamed Pond—ICPR Node 28D9 | Entire shoreline | None | +65 | Unincorporated Areas of Polk County.
London Creek Watershed Unnamed Wetland Area—ICPR Node 28W1 | Entire wetland area | None | +68 | Unincorporated Areas of Polk County.
London Creek Watershed Unnamed Wetland Area—ICPR Node 28W10 | Entire wetland area | None | +68 | Unincorporated Areas of Polk County.
London Creek Watershed Unnamed Wetland Area—ICPR Node 28W12 | Entire wetland area | None | +67 | Unincorporated Areas of Polk County.
London Creek Watershed Unnamed Wetland Area—ICPR Node 28W13 | Entire wetland area | None | +67 | Unincorporated Areas of Polk County.
London Creek Watershed Unnamed Wetland Area—ICPR Node 28W28 | Entire wetland area | None | +67 | Unincorporated Areas of Polk County.
London Creek Watershed Unnamed Wetland Area—ICPR Node 28W35 | Entire wetland area | None | +66 | Unincorporated Areas of Polk County.
London Creek Watershed Unnamed Wetland Area—ICPR Node 28W36 | Entire wetland area | None | +63 | Unincorporated Areas of Polk County.
London Creek Watershed Unnamed Wetland Area—ICPR Node 28W39 | Entire wetland area | None | +64 | Unincorporated Areas of Polk County.
London Creek Watershed Unnamed Wetland Area—ICPR Node 28W43 | Entire wetland area | None | +63 | Unincorporated Areas of Polk County.
London Creek Watershed Unnamed Wetland Area—ICPR Node 28W43A | Entire wetland area | None | +63 | Unincorporated Areas of Polk County.
London Creek Watershed Unnamed Wetland Area—ICPR Node 28W43B | Entire wetland area | None | +63 | Unincorporated Areas of Polk County.
London Creek Watershed Unnamed Wetland Area—ICPR Node 28W43C | Entire wetland area | None | +63 | Unincorporated Areas of Polk County.
London Creek Watershed Unnamed Wetland Area—ICPR Node 28W45 | Entire wetland area | None | +65 | Unincorporated Areas of Polk County.
London Creek Watershed Unnamed Wetland Area—ICPR Node 28W61 | Entire wetland area | None | +63 | Unincorporated Areas of Polk County.
London Creek Watershed Unnamed Wetland Area—ICPR Node 28W64 | Entire wetland area | None | +66 | Unincorporated Areas of Polk County.
London Creek Watershed Unnamed Wetland Area—ICPR Node 28W65 | Entire wetland area | None | +65 | Unincorporated Areas of Polk County.
London Creek Watershed Unnamed Wetland Area—ICPR Node 28W72 | Entire wetland area | None | +65 | Unincorporated Areas of Polk County.
London Creek Watershed Unnamed Wetland Area—ICPR Node 28W74 | Entire wetland area | None | +64 | Unincorporated Areas of Polk County.
London Creek Watershed Unnamed Wetland Area—ICPR Node 28W9 | Entire wetland area | None | +68 | Unincorporated Areas of Polk County.
London Creek Watershed Unnamed Wetland Area—ICPR Node 28W91 | Entire wetland area | None | +66 | Unincorporated Areas of Polk County.
Snell Creek | At the Lake Marion Creek and Lake Marion Creek Outlet confluence | None | +67 | Unincorporated Areas of Polk County.
| Approximately 1.5 miles upstream of Cypress Parkway | None | +72
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Polk County
Maps are available for inspection at 330 West Church Street, Bartow, FL 33830.
East Baton Rouge Parish, Louisiana, and Incorporated Areas
North Branch Wards Creek | Approximately 0.46 mile upstream of I-10 North | +29 | +30 | City of Baton Rouge, Unincorporated Areas of East Baton Rouge Parish.
| Approximately 1,600 feet upstream of Albert Drive | None | +52
Redwood Creek | Approximately 900 feet downstream of Plank Road | None | +92 | City of Zachary, Unincorporated Areas of East Baton Rouge Parish.
| Approximately 500 feet upstream of Port-Hudson Pride Road | None | +101
Sheet flow between McCarroll Drive and North Jefferson Place Circle | At North Jefferson Place Circle | None | #1 | City of Baton Rouge, Unincorporated Areas of East Baton Rouge Parish.
| At the intersection of Richards Drive and McCarroll Drive | None | #1
Shoe Creek | Approximately 0.58 mile downstream of Hooper Road | None | +59 | City of Central.
| Approximately 600 feet upstream of Gurney Road | None | +67
Shoe Creek Tributary 1 | Approximately 1,200 feet downstream of Hooper Road | None | +60 | City of Central.
| At the downstream side of Hooper Road | None | +60
Shoe Creek Tributary 1A | At the Shoe Creek Tributary 1 confluence | None | +60 | City of Central.
| Approximately 1,500 feet upstream of the Shoe Creek Tributary 1 confluence | None | +60
Upper White Bayou | Approximately 0.66 mile downstream of Zachary-Slaughter Highway | +93 | +94 | City of Zachary, Unincorporated Areas of East Baton Rouge Parish.
| Approximately 450 feet downstream of Brian Road | +110 | +111
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Baton Rouge
Maps are available for inspection at the Department of Public Works Flood Office, 100 Saint Ferdinand Street, Baton Rouge, LA 70802.
City of Central
Maps are available for inspection at the Central Municipal Service Center, 22801 Greenwell Springs Road, Suite 3, Greenwell Springs, LA 70739.
City of Zachary
Maps are available for inspection at the Annex Building, 4650 Main Street, Zachary, LA 70791.
Unincorporated Areas of East Baton Rouge Parish
Maps are available for inspection at the City of Baton Rouge Department of Public Works Flood Office, 100 Saint Ferdinand Street, Baton Rouge, LA 70802.
Nobles County, Minnesota, and Incorporated Areas
County Ditch No. 12 | Approximately 0.48 mile downstream of U.S. Route 59 | None | +1563 | City of Worthington.
| Approximately 570 feet downstream of U.S. Route 59 | None | +1566
County Ditch No. 6 | Approximately 1,260 feet downstream of U.S. Route 59/State Highway 60 | None | +1570 | City of Worthington, Unincorporated Areas of Nobles County.
| Approximately 75 feet downstream of U.S. Route 59/State Highway 60 | None | +1570
Tributary to Kanaranzi Creek | Approximately 520 feet upstream of the Kanaranzi Creek confluence | None | +1520 | City of Adrian, Unincorporated Areas of Nobles County.
| Approximately 1,350 feet downstream of 6th Street East | None | +1540
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Adrian
Maps are available for inspection at City Hall, 209 Maine Avenue, Adrian, MN 56110.
City of Worthington
Maps are available for inspection at City Hall, 303 9th Street, Worthington, MN 56187.
Unincorporated Areas of Nobles County
Maps are available for inspection at the Nobles County Government Center, 315 10th Street, Worthington, MN 56187.
Tallahatchie County, Mississippi, and Incorporated Areas
Hunter Creek | Approximately 1,170 feet downstream of State Route 32 | None | +187 | City of Charleston.
| Approximately 66 feet upstream of State Route 32 | None | +187
North Fork Tillatoba Creek | Approximately 995 feet downstream of State Route 35 | None | +180 | City of Charleston.
| Approximately 1,170 feet upstream of State Route 35 | None | +181
Tillatoba Creek | Approximately 1,465 feet downstream of State Route 32 | None | +181 | City of Charleston.
| Approximately 1.1 miles upstream of State Route 32 | None | +186
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Charleston
Maps are available for inspection at the Mayor's Office, 26 South Square Street, Charleston, MS 38921.
Ray County, Missouri, and Incorporated Areas
Missouri River | Approximately 0.8 mile downstream of the Brady Creek confluence | +706 | +704 | City of Fleming.
| Approximately 3.5 miles downstream of the Keeney Creek confluence | +711 | +709
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Fleming
Maps are available for inspection at the Ray County Courthouse, 100 West Main Street, Richmond, MO 64085.
Schenectady County, New York (All Jurisdictions)
Lisha Kill | Approximately 1,825 feet downstream of New York Route 7 (Troy-Schenectady Road) | None | +238 | Town of Niskayuna.
| At the Albany County boundary | None | +269
Mohawk River | At Canadian Pacific Railway Bridge | +226 | +225 | City of Schenectady, Town of Glenville, Town of Rotterdam, Village of Scotia.
| Approximately 1.08 miles downstream of Lock 8 | +232 | +231
Normans Kill | Approximately 1.15 miles downstream of Giffords Church Road | None | +276 | Town of Princetown.
| Approximately 1.16 miles upstream of Giffords Church Road | None | +292
Poentic Kill | At the Mohawk River confluence | None | +231 | City of Schenectady, Town of Rotterdam.
| Approximately 0.93 mile upstream of Campbell Road | None | +306
Schoharie Creek | Approximately 3.23 miles downstream of U.S. Route 20 | +531 | +541 | Town of Duanesburg.
| Approximately 3.13 miles upstream of U.S. Route 20 | +584 | +590
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Schenectady
Maps are available for inspection at City Hall, 105 Jay Street, Schenectady, NY 12305.
Town of Duanesburg
Maps are available for inspection at the Town Hall, 5853 Western Turnpike, Duanesburg, NY 12056.
Town of Glenville
Maps are available for inspection at the Municipal Center, 18 Glenridge Road, Glenville, NY 12302.
Town of Niskayuna
Maps are available for inspection at the Town Hall, 1 Niskayuna Circle, Niskayuna, NY 12309.
Town of Princetown
Maps are available for inspection at the Princetown Town Hall, 165 Princetown Plaza, Schenectady, NY 12306.
Town of Rotterdam
Maps are available for inspection at the John F. Kirvin Government Center, 1100 Sunrise Boulevard, Rotterdam, NY 12306.
Village of Scotia
Maps are available for inspection at the Village Hall, 4 North Ten Broeck Street, Scotia, NY 12302.

(Catalog of Federal Domestic Assistance No. 97.022, “Flood Insurance.”)

Dated: April 11, 2011.
Sandra K. Knight,
Deputy Federal Insurance and Mitigation Administrator, Mitigation, Department of Homeland Security, Federal Emergency Management Agency.

[FR Doc. 2011-10097 Filed 4-26-11; 8:45 am]

BILLING CODE 9110-12-P